DEPARTMENT OF ENERGY

Federal Energy Regulatory Commission

[Docket No. CP01-438-000]

Northwest Pipeline Corporation; Notice of Application

September 10, 2001.

Take notice that on August 30, 2001 Northwest Pipeline Corporation (Northwest), 295 Chipeta Way, Salt Lake City, Utah, 84158, filed in Docket No. CP01-438-000, an application, pursuant to sections 7(c) and 7(b) of the Natural Gas Act and Part 157 of the Federal Energy Regulatory Commission's regulations for: (1) A certificate of public convenience and necessity authorizing Northwest to construct and operate additional pipeline loop and compression facilities (referred to as the Rockies Expansion Project) designed to expand its physical north flow capacity in the Green River, Wyoming to Stanfield, Oregon corridor sufficient to replace 175,000 Dth/d of existing, north flow design day displacement capacity for Rate Schedule TF-1 service from the Muddy Creek Compressor Station in Wyoming to the Stanfield interconnect with PG&E Gas Transmission—Northwest and all 191,000 Dth/d of displacement capacity from the Green River Compressor Station to Muddy Creek; (2) permission and approval to abandon certain compression facilities and the existing north flow design day displacement capacity under Rate Schedule TF-1 which will be replaced by the proposed new facilities and physical capacity; (3) a determination that the Rockies Expansion Project qualifies for rolled-in rate treatment; (4) approval of a pro forma Rate Schedule TF-3, and related tariff revisions, providing for a new, subordinate firm north flow transportation service, under Northwest's existing Part 284 blanket certificate, which will be dependent upon the existing contract demand design day displacement capacity available within the Blanco, New Mexico to Muddy Creek, Wyoming corridor on Northwest's system; and (5) permission and approval to abandon all of Northwest's remaining north flow design day displacement capacity for existing Rate Schedule TF-1 services in the Blanco, New Mexico to Muddy Creek, Wyoming corridor, contingent upon approval of the proposed new Rate Schedule TF-3 service, all as more fully set forth in the application which is on file with the Commission and open to public inspection. This filing may be viewed on the web at http://www.ferc.gov using the “RIMS” link—select “Docket #” and follow the instructions (call (202)208-2222 for assistance).

Specifically, the proposed Rockies Expansion Project facilities include: (1) Approximately 91.1 miles of pipeline (46.1 miles of 30-inch and 45 miles of 24-inch), and associated block valves, to loop six unlooped segments of Northwest's mainline, along with new taps and appurtenances to connect two existing meter stations to the proposed pipeline loops, located in Sweetwater and Lincoln Counties, Wyoming and Bear Lake, Caribou, and Bannock Counties, Idaho; and (2) compressor unit additions, replacements, uprates and/or modifications at seven existing compressor stations, located in Sweetwater and Lincoln Counties, Wyoming and Bear Lake, Bannock, Power, Cassia, and Twin Falls Counties, Idaho, which will provide a net increase of 24,924 ISO horsepower on a north flow design day. Northwest requests that the Commission issue a preliminary determination on non-environmental issues by March 1, 2002 and a final certificate order by September 1, 2002.

The estimated cost of the proposed facilities is approximately $154.3 million. Northwest requests rolled-in rate treatment for the facilities, since, Northwest contends, the project is designed to benefit existing customers by reducing displacement reliance and ameliorating capacity constraints. Northwest states that shippers representing 86% of the current base, long-term, firm Rate Schedule TF-1 contract demand on Northwest's system have formally committed to support (or non-oppose) Northwest's installation of facilities and their rolled-in rate treatment. Northwest further states that the illustrative rolled-in rate impact is approximately $0.035 per Dth.

Northwest explains that the Rockies Expansion Project is necessary to replace displacement capacity that will no longer be available after the October 31, 2003 expiration of an existing contract-specific flow obligation for 144 MDth/d from Stanfield to the southern end of Northwest's system and to generally mitigate the need for Northwest to invoke operational flow orders under its tariff to compensate for shortfalls in displacement capacity required to serve existing primary firm, north flow transportation obligations.

Northwest states that the proposed new Rate Schedule TF-3 is designed to allow displacement-dependent north flow firm service to remain available in the Blanco to Muddy Creek corridor; but such service will be subordinate to Rate Schedule TF-1 primary firm services. It is said that the related proposed abandonment of all the existing Rate Schedule TF-1 displacement capacity in the Blanco to Muddy Creek corridor will mean that certain capacity currently contracted or available for TF-1 service will be available prospectively only for the proposed Rate Schedule TF-3 service.

Any questions regarding this application should be directed to Mr. Gary Kotter, Manager, Certificates, Northwest Pipeline Corporation, PO Box 58900, Salt Lake City, Utah 84158-0900 or call (801) 584-7117.

There are two ways to become involved in the Commission's review of this project. First, any person wishing to obtain legal status by becoming a party to the proceedings for this project should, on or before October 1, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-23140 Filed 9-14-01; 8:45 am]

BILLING CODE 6717-01-P